DEPARTMENT OF HEALTH AND HUMAN SERVICES

National Institutes of Health

National Institute of Arthritis and Musculoskeletal and Skin Diseases; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Arthritis and Musculoskeletal and Skin Diseases Special Emphasis Panel, Program Project Grant Review.

Date: July 2, 2010.

Time: 1 p.m. to 3 p.m.

Agenda: To review and evaluate grant applications.

Place: National Institutes of Health, 6701 Democracy Blvd, Suite 800, Bethesda, MD 20892, (Telephone Conference Call).

Contact Person: Eric H. Brown, Scientific Review Officer, Scientific Review Branch, NIAMS/NIH, 6701 Democracy Blvd, Suite 824, Bethesda, MD 20892, (301) 594-4955, browneri@mail.nih.gov.

Name of Committee: National Institute of Arthritis and Musculoskeletal and Skin Diseases Special Emphasis Panel, Clinical Trials Application Review.

Date: July 16, 2010.

Time: 8 a.m. to 4 p.m.

Agenda: To review and evaluate grant applications.

Place: Crowne Plaza—Dulles Airport, 2200 Centerville Road, Herndon, VA 20170.

Contact Person: Michael L. Bloom, MBA, PhD, Scientific Review Officer, Scientific Review Branch, NIAMS/NIH, 6701 Democracy Blvd, Suite 820, Bethesda, MD 20892, 301-594-4953, bloomm2@mail.nih.gov.

(Catalogue of Federal Domestic Assistance Program Nos. 93.846, Arthritis, Musculoskeletal and Skin Diseases Research, National Institutes of Health, HHS)

Dated: June 14, 2010.
Jennifer Spaeth,
Director, Office of Federal Advisory Committee Policy.

[FR Doc. 2010-14771 Filed 6-17-10; 8:45 am]

BILLING CODE 4140-01-P